DEPARTMENT OF THE INTERIOR

National Park Service

[NPS-WASO-NRNHL-DTS#-27654; PPWOCRADI0, PCU00RP14.R50000]

National Register of Historic Places; Notification of Pending Nominations and Related Actions

AGENCY: National Park Service, Interior.

ACTION: Notice.

SUMMARY: The National Park Service is soliciting comments on the significance of properties nominated before April 6, 2019, for listing or related actions in the National Register of Historic Places.

DATES: Comments should be submitted by May 7, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before April 6, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

DISTRICT OF COLUMBIA

District of Columbia

Wardman Park Annex and Arcade (Boundary Increase), 2600 Woodley Rd. NW, Washington, BC100003945

IOWA

Carroll County

Holy Guardian Angels Church and Cemetery Historic District, Jade Ave. and 245th St., Roselle, 04001424

Woodbury County

Albertson and Company—Rocklin Manufacturing Company, 110 S Jennings St., Sioux City, SG100003944

MASSACHUSETTS

Hampden County

St. James Apartments, The, 573 State St.-5 Oak St., Springfield, SG100003941

Wigglesworth Building, The, 23 Oak St.-71 Lillian St., Springfield, SG100003943

Suffolk County

Nathan Warnick Apartments, 57 Bicknell St., Boston, SG100003942

MICHIGAN

Wayne County

Ferry, William Hawkins, House, 874 Lake Shore Rd., Grosse Point Shores, SG100003936

Marwood Apartments, (Apartment Buildings in Detroit, Michigan, 1892-1970 MPS), 53 Marston St., Detroit, MP100003937

MISSISSIPPI

Alcorn County

Gateway Lanes, 2001 E Shiloh Rd., Corinth, SG100003949

Carroll County

Carrollton Community House, 305 Lexington St., Carrollton, SG100003951

Hinds County

Morris Ice Company, 652 Commerce St., Jackson, SG100003950

Newton County

McElroy-Hove House, 400 E Church St., Newton, SG100003952

Yazoo County

Woolwine, J.W., Homes, 1900 Gordon Ave., 19th St., and adjacent parcels on the N and E, Yazoo City, SG100003947

Lindsey Lawn Apartments, 121 Lindsey Lawn Dr., E 11th St., Calhoun Ave., and neighboring parcels on S, Yazoo City, SG100003948

NEW YORK

Kings County

Alku & Alku Toinen, 816 and 826 43rd St., Brooklyn, SG100003932

New York County

George Washington Hotel, 23 Lexington Ave., New York, SG100003931

St. Luke's Hospital, 30 Morningside Dr., New York, SG100003934

Seneca County

Waterloo High School, 202-206 W Main St., Waterloo, SG100003933

Suffolk County

Lowndes, Stanley H., House, 155 Bayview Ave., Northport, SG100003935

NORTH CAROLINA

Burke County

Henry River Mill Village Historic District, 4216-4283 Henry River Rd., Hildebran, SG100003929

Catawba County

Oakwood Historic District (Boundary Increase)

(Hickory MRA), Portions of 1st Ave. NW, 2nd Ave. NW, 2nd St. NW, 2nd Pl. NW, 3rd Ave. NW, 3rd St. NW, 4th Ave. NW, 4 Ave. Dr. NW, 4th St. NW, 5th St. NW, 6th St. NW, 7th St. NW, 8th St. NW, and N Center St., and 8th St. NW, 6th Ave. NW, N Center St., and 1st. Ave., Hickory, BC100003928

Davidson County

Lexington Industrial Historic District, Roughly bounded by E First and S Salisbury Sts., The North Carolina RR corridor, and Wennonah Cotton Mill village's W. lot lines, Lexington, SG100003927

Orange County

West Chapel Hill Historic District, Roughly bounded by W Franklin, S Columbia, and Pittsboro Sts., Brookside and Dogwood Drs., and the E end of McCauley St. and W Patterson Pl., Chapel Hill, BC100003930

SOUTH CAROLINA

Richland County

Five Points Historic District, Harden, Devine, and Greene Sts., Santee and Saluda Aves., Columbia, SG100003938

Spann, Dr. Cyril O., Medical Office, 2226 Hampton St., Columbia, SG100003939

WISCONSIN

Milwaukee County

Barbee, Lloyd A., House, 321 E Meinecke Ave., Milwaukee, SG100003940

Additional documentation has been received for the following resource:

DISTRICT OF COLUMBIA

District of Columbia

Wardman Park Annex and Arcade, 2600 Woodley Rd. NW, Washington, AD84000869

Authority: Section 60.13 of 36 CFR part 60.

Dated: April 8, 2019.
Kathryn G. Smith,
Acting Chief, National Register of Historic Places/National Historic Landmarks Program.

[FR Doc. 2019-08045 Filed 4-19-19; 8:45 am]

BILLING CODE 4312-52-P